DEPARTMENT OF TRANSPORTATION

Federal Aviation Administration

14 CFR Part 39

[Docket No. FAA-2005-22511; Directorate Identifier 2005-NM-120-AD; Amendment 39-14440; AD 2006-01-01]

RIN 2120-AA64

Airworthiness Directives; Gulfstream Aerospace LP Model Gulfstream 100 Airplanes; and Model Astra SPX, and 1125 Westwind Astra Airplanes

AGENCY: Federal Aviation Administration (FAA), Department of Transportation (DOT).

ACTION: Final rule.

SUMMARY: The FAA is adopting a new airworthiness directive (AD) for certain Gulfstream Aerospace LP Model Gulfstream 100 airplanes; and Model Astra SPX, and 1125 Westwind Astra airplanes. This AD requires a one-time inspection for discrepancies of the nose wheel steering assembly of the landing gear, installing a warning placard on each nose landing gear door, and corrective action if necessary. This AD results from reports of failure of the steering brackets of the nose wheel steering assembly, and in one incident, loss of steering control. We are issuing this AD to find and fix these discrepancies, which could result in loss of steering control and consequent reduced controllability of the airplane.

DATES: This AD becomes effective February 16, 2006.

The Director of the Federal Register approved the incorporation by reference of certain publications listed in the AD as of February 16, 2006.

ADDRESSES: You may examine the AD docket on the Internet at http://dms.dot.gov or in person at the Docket Management Facility, U.S. Department of Transportation, 400 Seventh Street, SW., Nassif Building, Room PL-401, Washington, DC.

Contact Gulfstream Aerospace Corporation, P.O. Box 2206, Mail Station D-25, Savannah, Georgia 31402-2206, for service information identified in this AD.

FOR FURTHER INFORMATION CONTACT: Mike Borfitz, Aerospace Engineer, International Branch, ANM-116, FAA, Transport Airplane Directorate, 1601 Lind Avenue, SW., Renton, Washington 98055-4056; telephone (425) 227-2677; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Gulfstream Aerospace LP Model Gulfstream 100 airplanes; and Model Astra SPX, and 1125 Westwind Astra airplanes. That NPRM was published in the Federal Register on September 26, 2005 (70 FR 56143). That NPRM proposed to require a one-time inspection for discrepancies of the nose wheel steering assembly of the landing gear, installing a warning placard on each nose landing gear door, and corrective action if necessary.

Comments

We provided the public the opportunity to participate in the development of this AD. We have considered the comments received from one commenter.

Request To Withdraw AD

The commenter notes that, since release of the service bulletins referenced in the NPRM (100-32A-275 and 1125-11-181, both Revision 1, both dated December 24, 2003), Gulfstream has issued a new service bulletin (100-32-282) that provides instructions for removing the co-rotating shaft connecting the nose wheels, and replacing it with a tube that is inserted into the wheel axle. The new service bulletin also provides instructions for replacing the self-locking nut of the centering spring pivot axis with a castellated nut. The commenter adds that Gulfstream has since put that service bulletin on hold due to the fact that there was at least one airplane that experienced nose wheel shimmy (due to cracked nose wheel steering brackets), after incorporating the service bulletin. The commenter notes that Gulfstream has now developed an improved upper and lower bracket assembly; Revision 1 of service bulletin 100-32-282 will provide instructions for replacing those bracket assemblies, as well as replacing the self-locking nut of the centering spring pivot axis with a castellated nut. In addition, Revision 1 will provide instructions for removing and replacing the co-rotating shaft with a tube inserted into the wheel axle. The commenter adds that the expected release date for Revision 1 is during the fourth quarter of 2005. In light of these facts, the commenter asks that the NPRM be withdrawn. The commenter concludes that if the FAA does not withdraw the NPRM, accomplishing Gulfstream Service Bulletins 1125-11-181 and 100-32-282 should be included as terminating action.

We do not agree with the commenter's requests as follows:

We do not agree to withdraw the NPRM since we have determined that an unsafe condition exists, and that the actions required by this AD are necessary to ensure the continued safety of the affected fleet.

Regarding the request to refer to a terminating action, we note that the service bulletin revisions to which the commenter refers have not yet been released. Approving revisions of service bulletins that have not yet been released would violate the Office of the Federal Register's (OFR) regulations for approving materials that are incorporated by reference. In general terms, we are required by these OFR regulations either to publish the service document contents as part of the actual AD language, or to submit the service document to the OFR for approval as “referenced” material, in which case we may only refer to such material in the text of an AD. The AD may refer to the service document only if the OFR has approved it for “incorporation by reference.” Once the service bulletin revisions have been issued, and we have approved them, we may consider approving them as an alternative method of compliance (AMOC) with this AD. Operators may request approval of an AMOC for this AD under the provisions of paragraph (g) of this AD.

In addition, this AD requires a one-time non-destructive test inspection for discrepancies of the nose wheel steering assembly, installing a warning placard on each nose landing gear door, and doing any applicable corrective action. No further action is required by this AD, so it is not necessary to include an additional terminating action.

No change to the AD is needed in this regard.

Clarification of Alternative Method of Compliance (AMOC) Paragraph

We have changed this AD to clarify the appropriate procedure for notifying the principal inspector before using any approved AMOC on any airplane to which the AMOC applies.

Conclusion

We have carefully reviewed the available data, including the comments received, and determined that air safety and the public interest require adopting the AD with the change described previously. This change will neither increase the economic burden on any operator nor increase the scope of the AD.

Costs of Compliance

This AD would affect about 106 airplanes of U.S. registry. The inspection would take about 8 work hours per airplane, at an average labor rate of $65 per work hour. Based on these figures, the estimated cost of the AD for U.S. operators is $55,120, or $520 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-01 Gulfstream Aerospace LP (Formerly Israel Aircraft Industries, Ltd.): Amendment 39-14440. Docket No. FAA-2005-22511; Directorate Identifier 2005-NM-120-AD.

Effective Date

(a) This AD becomes effective February 16, 2006.

Affected ADs

(b) None.

Applicability

(c) This AD applies to Gulfstream Aerospace LP Model Gulfstream 100 airplanes; and Model Astra SPX, and 1125 Westwind Astra airplanes; certificated in any category; as identified in Gulfstream Alert Service Bulletin 100-32A-275 and Gulfstream Service Bulletin 1125-11-181, both Revision 1, both dated December 24, 2003.

Unsafe Condition

(d) This AD was prompted by reports of failure of the steering brackets of the nose wheel steering assembly of the landing gear, and in one incident, loss of steering control. We are issuing this AD to find and fix discrepancies of the nose wheel steering assembly which could result in loss of steering control and consequent reduced controllability of the airplane.

Compliance

(e) You are responsible for having the actions required by this AD performed within the compliance times specified, unless the actions have already been done.

One-Time Inspection/Corrective Action

(f) Within 50 flight hours or 25 landings after the effective date of this AD, whichever is first: Perform a one-time non-destructive test inspection for discrepancies of the nose wheel steering assembly, install a warning placard on each nose landing gear door, and do any applicable corrective action, by accomplishing all the actions specified in the Accomplishment Instructions of Gulfstream Alert Service Bulletin 100-32A-275 and Gulfstream Service Bulletin 1125-11-181, both Revision 1, both dated December 24, 2003. Any applicable corrective action must be accomplished before further flight in accordance with Alert Service Bulletin 100-32A-275. Although the service bulletins specify to submit certain information to the manufacturer, this AD does not include that requirement.

Alternative Methods of Compliance (AMOCs)

(g)(1) The Manager, International Branch, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) Israeli airworthiness directives 32-03-10-05 R1, dated February 8, 2004, and 32-03-12-09, dated February 5, 2004, also address the subject of this AD.

Material Incorporated by Reference

(i) You must use Gulfstream Alert Service Bulletin 100-32A-275, Revision 1, dated December 24, 2003; and Gulfstream Service Bulletin 1125-11-181, Revision 1, dated December 24, 2003; as applicable; to perform the actions that are required by this AD, unless the AD specifies otherwise. The Director of the Federal Register approved the incorporation by reference of these documents in accordance with 5 U.S.C. 552(a) and 1 CFR part 51. Contact Gulfstream Aerospace Corporation, P.O. Box 2206, Mail Station D-25, Savannah, Georgia 31402-2206, for a copy of this service information. You may review copies at the Docket Management Facility, U.S. Department of Transportation, 400 Seventh Street, SW., Room PL-401, Nassif Building, Washington, DC; on the Internet at http://dms.dot.gov; or at the National Archives and Records 1 Administration (NARA). For information on the availability of this material at the NARA, call (202) 741-6030, or go to http://www.archives.gov/federal_register/code_of_federal_regulations/ibr_locations.html.

Issued in Renton, Washington, on December 20, 2005.
Kalene C. Yanamura,
Acting Manager, Transport Airplane Directorate, Aircraft Certification Service.

[FR Doc. 06-264 Filed 1-11-06; 8:45 am]

BILLING CODE 4910-13-P